DEPARTMENT OF HOMELAND SECURITY

[Docket No. DHS-2018-0038]

Science and Technology Collection of Qualitative Feedback

AGENCY: Science and Technology Directorate (S&T), Department of Homeland Security (DHS).

ACTION: 60-Day notice of information collection; new request for comment.

SUMMARY: S&T will submit the following Information Collection Request (ICR) to the Office of Management and Budget (OMB) for review and clearance in accordance with the Paperwork Reduction Act of 1995. The information collection activity will garner qualitative customer and stakeholder feedback in an efficient, timely manner, in accordance with the Administration's commitment to improving service delivery.

DATES: Comments are encouraged and accepted until January 14, 2019.

ADDRESSES: You may submit comments, identified by docket number DHS-2018-0038, at:

• Federal eRulemaking Portal: http://www.regulations.gov. Please follow the instructions for submitting comments.

• Mail and hand delivery or commercial delivery: Science and Technology Directorate, ATTN: Chief Information Office—Mary Cantey, 245 Murray Drive, Mail Stop 0202, Washington, DC 20528.

Instructions: All submissions received must include the agency name and docket number DHS-2018-0038. All comments received will be posted without change to http://www.regulations.gov, including any personal information provided. Please note that comments submitted by fax or email and those submitted after the comment period will not be accepted.

Docket: For access to the docket to read background documents or comments received, go to http://www.regulations.gov.

FOR FURTHER INFORMATION CONTACT: DHS/S&T/OCIO Program Manager: Mary Cantey, Mary.K.Cantey@hq.dhs.gov or 202-254-5367 (Not a toll free number).

SUPPLEMENTARY INFORMATION: The information collection activity will garner qualitative customer and stakeholder feedback in an efficient, timely manner, in accordance with the S&T's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training or changes in operations might improve delivery of products or services. These collections will allow for ongoing, collaborative and actionable communications between S&T and its customers and stakeholders. It will also allow feedback to contribute directly to the improvement of S&T's program management. Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential nonresponse bias, the protocols for data collection, and any testing procedures that were or will be undertaken prior fielding the study. Depending on the degree of influence the results are likely to have, such collections may still be eligible for submission for other generic mechanisms that are designed to yield quantitative results. DHS, in accordance with the Paperwork Reduction Act (PRA), 44 U.S.C. 3501 et seq., provides the general public and Federal agencies with an opportunity to comment on proposed, revised, and continuing collections of information. DHS is soliciting comments on the proposed Information Collection Request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Title of Collection: Science and Technology Collection of Qualitative Feedback.

Type of Review: New.

Affected Public: Individuals and Households, Businesses and Organizations, State, Local or Tribal Government.

Frequency of Collection: One per Request.

Estimated Time per Respondent: 30 minutes or under.

Number of Respondents: 215,100.

Total Burden Hours: 34,732.

Dated: October 16, 2018.
Rick Stevens,
Chief Technology Officer, Science and Technology Directorate.

[FR Doc. 2018-24906 Filed 11-14-18; 8:45 am]

BILLING CODE 9110-9F-P